INTERNATIONAL TRADE COMMISSION

[USITC SE-01-018]

Sunshine Act Meeting

AGENCY HOLDING THE MEETING: International Trade Commission.

TIME AND DATE: May 15, 2001 at 11 a.m.

PLACE: Room 101, 500 E Street SW., Washington, DC 20436, Telephone: (202) 205-2000.

STATUS: Open to the public.

Matters To Be Considered

1. Agenda for future meeting: none.

2. Minutes.

3. Ratification List.

4. Inv. Nos. 731-TA-875, 879, 880, and 882 (Final) (Certain Steel Concrete Reinforcing Bars from Indonesia, Moldova, Poland, and Ukraine)—briefing and vote. (The Commission is currently scheduled to transmit its determination and Commissioners' opinions to the Secretary of Commerce on May 25, 2001.)

5. Outstanding action jackets:

1. Document No. GC-01-042: Regarding Inv. No. 337-TA-429 (Certain Bar Clamps, Bar Clamp Pads, and Related Packaging, Display, and Other Materials).

In accordance with Commission policy, subject matter listed above, not disposed of at the scheduled meeting, may be carried over to the agenda of the following meeting.

By order of the Commission.
Issued: May 4, 2001.
Donna R. Koehnke,
Secretary.

[FR Doc. 01-11826 Filed 5-7-01; 2:16 pm]

BILLING CODE 7020-02-P